SMALL BUSINESS ADMINISTRATION

[Declaration of Disaster #3628]

State of North Carolina (Amendment #1)

In accordance with notices received from the Department of Homeland Security—Federal Emergency Management Agency—effective September 23 and 27, 2004, the above numbered declaration is hereby amended to establish the incident period for this disaster as beginning September 16, 2004, and continuing through September 23, 2004. The declaration is also amended to include Alamance, Alleghany, Ashe, Caswell, Davidson, Forsyth, Graham, Guilford, Randolph, Rockingham, Stokes, Swain, and Wilkes Counties as disaster areas due to damages caused by Hurricane Ivan.

In addition, applications for economic injury loans from small businesses located in the contiguous counties of Chatham, Davie, Iredell, Montgomery, Moore, Orange, Person, Rowan, Stanly, Surry, and Yadkin in the State of North Carolina; Blount, Monroe, and Sevier Counties in the State of Tennessee; and Grayson, Halifax, Henry, Patrick, and Pittsylvania Counties in the Commonwealth of Virginia may be filed until the specified date at the previously designated location. All other counties contiguous to the above named primary counties have previously been declared.

The economic injury disaster number assigned to Virginia is 9AD400.

All other information remains the same, i.e., the deadline for filing applications for physical damage is November 17, 2004 and for economic injury the deadline is June 20, 2005.

(Catalog of Federal Domestic Assistance Program Nos. 59002 and 59008)
Dated: September 29, 2004.
Herbert L. Mitchell,
Associate Administrator for Disaster Assistance.

[FR Doc. 04-22426 Filed 10-5-04; 8:45 am]

BILLING CODE 8025-01-P